DEPARTMENT OF COMMERCE

International Trade Administration

[C-122-854]

Supercalendered Paper From Canada: Preliminary Results of Countervailing Duty Expedited Review

AGENCY: Enforcement and Compliance, International Trade Administration, Department of Commerce.

SUMMARY: The Department of Commerce (the Department) is conducting an expedited review of the countervailing duty (CVD) order on supercalendered paper (SC paper) from Canada. The period of expedited review (POR) is January 1, 2014, through December 31, 2014. We preliminarily determine that Irving Paper Limited received countervailable subsidies during the POR. We also preliminarily determine that Catalyst Paper received de minimis countervailable subsidies. Interested parties are invited to comment on these preliminary results.

DATES: Effective November 28, 2016.

FOR FURTHER INFORMATION CONTACT: Nicholas Czajkowski or Toby Vandall, AD/CVD Operations, Enforcement and Compliance, International Trade Administration, U.S. Department of Commerce, 1401 Constitution Avenue NW., Washington, DC 20230; telephone: (202) 482-1395 and (202) 482-1664, respectively.

Scope of the Order

The product covered by this order is SC paper. A full description of the scope of the order is contained in the Preliminary Decision Memorandum, which is hereby adopted by this notice.¹

¹ See Memorandum from James Maeder, Senior Director, Office I, for Antidumping and Countervailing Duty Operations, to Gary Taverman, Associate Deputy Assistant Secretary for Enforcement and Compliance, “Preliminary Results of Expedited Review of the Countervailing Duty Order on Supercalendered Paper from Canada,” dated concurrently with this notice (Preliminary Decision Memorandum).

Methodology

On December 10, 2015, the Department issued a countervailing duty order on SC paper from Canada.² The Department is conducting this CVD expedited review in accordance with 19 CFR 351.214(k). For a full description of the methodology underlying our preliminary conclusions, see the Preliminary Decision Memorandum. The list of topics discussed in the Preliminary Decision Memorandum is included as an Appendix to this notice. The Preliminary Decision Memorandum is a public document and is on file electronically via Enforcement and Compliance's Antidumping and Countervailing Duty Centralized Electronic Service System (ACCESS). ACCESS is available to registered users at http://access.trade.gov, and is available to all parties in the Central Records Unit, room B8024 of the main Department of Commerce building. In addition, a complete version of the Preliminary Decision Memorandum can be accessed directly on the Internet at http://enforcement.trade.gov/frn/index.html. The signed Preliminary Decision Memorandum and the electronic versions of the Preliminary Decision Memorandum are identical in content.

² See Supercalendered Paper From Canada: Countervailing Duty Order, 80 FR 76668 (December 10, 2015).

We calculated a CVD rate for each producer/exporter of the subject merchandise that requested an expedited review.

Preliminary Results of Review

As a result of this review, we preliminarily determine the countervailable subsidy rates to be:

Company | Subsidy rate
Catalyst Paper Corporation (Catalyst) | 0.79 percent (de minimis)
Irving Paper Limited (Irving) | 7.99 percent

Disclosure and Public Comment

The Department will disclose to parties to this proceeding the calculations performed in connection with these preliminary results within five days publication of this notice.³ Interested parties may submit case briefs within 30 days of publication of these preliminary results and rebuttal briefs no later than five days after the deadline for filing case briefs.⁴ Rebuttal briefs must be limited to issues raised in the case briefs.⁵ Parties who submit case or rebuttal briefs are requested to submit with the argument: (1) A statement of the issue; (2) a brief summary of the argument; and, (3) a table of authorities.⁶ Pursuant to 19 CFR 351.310(c), interested parties who wish to request a hearing must do so within 30 days of publication of these preliminary results by submitting a written request to the Assistant Secretary for Enforcement and Compliance, U.S. Department of Commerce, filed electronically using ACCESS. Requests should contain the party's name, address, and telephone number; the number of participants; and a list of the issues to be discussed. If a request for a hearing is made, we will inform parties of the scheduled date for the hearing which will be held at the U.S. Department of Commerce, 1401 Constitution Avenue NW., Washington, DC 20230, at a time and location to be determined. Parties should confirm by telephone the date, time, and location of the hearing two days before the scheduled date.

³ See 19 CFR 351.224(b).

⁴ See 19 CFR 351.309(c)(1)(ii) and (d)(1).

⁵ See 19 CFR 351.309(d)(2).

⁶ See 19 CFR 351.309(c)(2) and (d)(2).

Unless the deadline is extended pursuant to 19 CFR 351.214(h)(i)(2), the Department will issue the final results of this expedited review, including the results of its analysis of issues raised in any written briefs, within 90 days after the date of publication of these preliminary results.

Cash Deposit Instructions

Pursuant to section 19 CFR 351.214(k)(iii), the final results of this expedited review will not be the basis for the assessment of countervailing duties. Upon issuing the final results, the Department intends to instruct Customs and Border Protection (CBP) to collect cash deposits of estimated countervailing duties for the companies subject to this expedited review, at the rates shown above, on shipments of subject merchandise entered, or withdrawn from warehouse, for consumption on or after the date of publication of the final results of this expedited review. These cash deposit requirements, when imposed, shall remain in effect until further notice. Pursuant to 19 CFR 351.214(k)(iv), however, if either Catalyst and/or Irving has a final estimated net subsidy rate that is zero or de minimis, they will be excluded from the order.

This determination is issued and published pursuant to sections 751(a)(1) and 777(i) of the Act and 19 CFR 351.214(h) and (k).

Dated: November 22, 2016.
Gary Taverman,
Associate Deputy Assistant Secretary for Antidumping and Countervailing Duty Operations.

Appendix

List of Topics Discussed in the Preliminary Decision Memorandum

I. Summary

II. Background

III. Scope of the Order

IV. Subsidies Valuation

V. Analysis of Programs

VI. Disclosure and Public Comment

VII. Conclusion

[FR Doc. 2016-28505 Filed 11-25-16; 8:45 am]

BILLING CODE 3510-DS-P